DEPARTMENT OF THE INTERIOR

National Park Service

[NPS-WASO-NAGPRA-NPS0033498; PPWOCRADN0-PCU00RP14.R50000]

Notice of Inventory Completion: Museum of Us (Formerly the San Diego Museum of Man), San Diego, CA

AGENCY: National Park Service, Interior.

ACTION: Notice.

SUMMARY: The Museum of Us (formerly the San Diego Museum of Man) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum of Us. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum of Us at the address in this notice by April 11, 2022.

FOR FURTHER INFORMATION CONTACT: Kara Vetter, Director of Cultural Resources, Museum of Us, 1350 El Prado, Balboa Park, San Diego, CA 92101, telephone (619) 239-2001 Ext. 44, email kvetter@museumofus.org.

SUPPLEMENTARY INFORMATION: Notice is here given in accordance with the Native American Graves Protection and Repatriation Act (NAGPRA), 25 U.S.C. 3003, of the completion of an inventory of human remains and associated funerary objects under the control of the Museum of Us, San Diego, CA. The human remains and associated funerary objects were removed from San Diego and Imperial Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum of Us professional staff in consultation with representatives of the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California [previously listed as Santa Ysabel Band of Diegueno Mission Indians of the Santa Ysabel Reservation]; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Tribes”).

History and Description of the Remains

Between April 7, 1968 and January 8, 1969, human remains representing, at minimum, four individuals were removed from site W-340 (aka CA-SDI-17391) in San Diego, CA, by Emma Lou Davis. Davis, an anthropologist, conducted reconnaissance and salvage excavations on behalf of the Museum of Us (formerly the Museum of Man) throughout San Diego County in the late 1960s and early 1970s. This museum-sponsored excavation focused on salvaging archeological information after the landowner reported having unearthed lithic artifacts during excavation for a development. No known individuals were identified. The 848 associated funerary objects are one modified faunal bone, 97 unmodified faunal bones, five bifaces, 10 choppers, 44 cores, nine core tools, five projectile points, 14 scrapers, 50 utilized flakes, 288 unworked flake, 47 manos, one metate, one mortar, one groundstone abrader, four pestles, one insect cocoon, three organic plants, 105 ecofacts, two modified shells, 120 lots of unmodified shell, five soil samples, nine midden samples, 11 battered stones, eight fire-affected stones, one piece of organic yellow ochre, and six pieces of organic red ochre.

Between October 23 and November 4, 1968, human remains representing, at minimum, one individual, were removed by Emma Lou Davis from W-380, an archeological site located in Poway, San Diego County, CA. This museum-sponsored excavation focused on salvaging archeological information after the landowner reported having unearthed many metates in her backyard over the years and also having encountered “pothunters” on her property. The age and sex of this individual are unknown. No known individual was identified. The 177 associated funerary objects are 11 unmodified faunal bones, one ceramic pendant, seven undecorated ceramic body sherds, two undecorated ceramic rim sherds, two bifaces, five choppers, 19 cores, 11 core tools, one ground stone sucking tube, 12 projectile points, 28 scrapers, 19 unworked flakes, 11 utilized flakes, 12 manos, two historic ceramic, five pieces of charcoal, 12 ecofacts, two modified shells, eight unmodified shells, two battered stones, and five fire-affected rocks.

Between June 27 and August 10, 1969, human remains representing, at minimum, 11 individuals were removed by Emma Lou Davis from W-384 and W-384B, two archeological sites located in Julian, San Diego County, CA. These sites are referred to as Lamp Site A and Lamp Site B (after the property owners, who consented to the museum-sponsored excavation). The limited extant documentation identifies the “Culture Type” at these sites as “Diegueño,” which, if true, would date their origins to approximately 1,300 years before present. No known individuals were identified. The 840 associated funerary objects are three modified faunal bones, 144 unmodified faunal bones, four ceramic pendants, five ceramic pipe fragments, three decorated ceramic body sherds, six decorated ceramic rim sherds, 17 lots of undecorated ceramic body sherds, 42 undecorated ceramic body sherds, four lots of undecorated ceramic rim sherds, 113 undecorated rim sherds, two bifaces, 14 cores, 48 projectile points, 22 scrapers, 27 lots of unworked flakes, 56 unworked flakes, four lots of utilized flakes, 75 utilized flakes, 20 manos, one metate, five ground stone pendants, one discoid, one pestle, three shaft straighteners, 73 pieces of historic period glass, three lots of historic period metal, 35 pieces of historic period metal, five pieces of historic period organic material, four lots of charcoal, 22 pieces of organic material, 37 pieces of plant material, 29 pieces of wood material, three ecofacts, two modified shells, four unmodified shells, and three fire-affected rocks.

Sometime in 1972, human remains representing, at minimum, one individual were removed from archeological sites W-460 (aka CA-SDI-6084) and W-461 (aka CA-SDI-6085) in Poway, San Diego County, CA, during a surface collection conducted at the Carmel Mountain East Housing Development. The limited extant documentation identifies the “Culture Type” at these sites as “San Dieguito II,” which, if true, would date their origins to approximately 12,000-9,000 years before present. Additional documentation indicates that W-461 is “a probable extension of W-460” (the two sites lie near each other). No known individual was identified. The 79 associated funerary objects are six decorated ceramic body sherds, one undecorated ceramic body sherd, three undecorated rim sherds, nine bifaces, one projectile point, 12 scrapers, 23 unworked flakes, 19 utilized flakes, one mano, one historic period ceramic piece, one piece of organic plant material, one unmodified shell, and one fire-affected rock.

Sometime between 1920 and 1950, human remains representing, at minimum, one individual were removed from C-151, an archeological site in McCain Valley, CA, by Malcolm J. Rogers. Rogers, a geologist, conducted reconnaissance excavations on behalf of the Museum of Us (formerly the Museum of Man) throughout San Diego and Imperial Counties County in the late 1920s and early 1950s. A site file identifies the “Culture Type” at this site as East Diegueño Yuman III Period, which would date its origins to approximately 1,300 years before present. No known individual was identified. The 160 associated funerary objects are one unmodified faunal bone fragment, two ceramic pipe fragments, three ceramic vessels, two lots of mixed ceramic sherds, six decorated ceramic body sherds, 10 decorated rim sherds, 14 undecorated ceramic body sherds, 105 undecorated rim sherds, two bifaces, one projectile point, eight scrapers, two manos, one pestle, one piece of organic wood material, one ecofact, and one battered stone.

Sometime between 1920 and 1950, human remains representing, at minimum, one individual, were removed by Malcolm J. Rogers from C-153, an archeological site in McCain Valley, CA, during a museum-sponsored excavation. A site file identifies the “Culture Type” at this site as East Diegueño Yuman III Period, which, if true, would date its origins to approximately 1,300 years before present. No known individual was identified. The 1551 associated funerary objects are two unmodified faunal bones, 11 incomplete ceramic vessels, 347 decorated ceramic body sherds, eight decorated ceramic rim sherds, 987 undecorated ceramic body sherds, 155 undecorated ceramic rim sherds, two bifaces, three choppers, four projectile points, five scrappers, two unworked flakes, three utilized flakes, three manos, one pestle, 15 pieces of organic plant material, and three historic period paper materials.

Sometime between 1920 and 1950, human remains representing, at minimum, one individual were removed by Malcolm J. Rogers from C-155 and C-155A, a cluster of archeological sites in McCain Valley, CA, during a museum-sponsored excavation. A site file identifies the “Culture Type” at this site as North and East Diegueño, which, if true, would date its origins to approximately 1,300 years before present. No known individual was identified. The 418 associated funerary objects are two ceramic pipe fragments, 19 ceramic pendant fragments, 24 decorated ceramic body sherds, two decorated ceramic rim sherds, 91 undecorated ceramic body sherds, five various undecorated ceramic sherds, 214 undecorated ceramic rim sherds, seven bifaces, two core tools, 38 projectile points, two scrapers, four unworked flakes, one stone paint pallet, one historic period ceramic piece, two pieces of historic period glass, one piece of organic wood material, one ecofact, and two modified shells.

All of the above listed sites are located within the traditional ancestral territory of the Kumeyaay Nation, and based on archeological, geographical, ethnographic, anthropological (burial practices), and oral historical information, all the above listed human remains are connected to the Kumeyaay. Today, the Kumeyaay are represented by The Tribes.

Determinations Made by the Museum of Us

Officials of the Museum of Us have determined that:

• Pursuant to 25 U.S.C. 3001(9), the human remains described in this notice represent the physical remains of 20 individuals of Native American ancestry.

• Pursuant to 25 U.S.C. 3001(3)(A), the 4,073 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Kara Vetter, Director of Cultural Resources, Museum of Us, 1350 El Prado, Balboa Park, San Diego, CA 92101, telephone (619) 239-2001 Ext. 44, email kvetter@museumofus.org, by April 11, 2022. After that date, if no additional requestors have come forward, transfer of control of the human remains and associated funerary objects to The Tribes may proceed.

The Museum of Us is responsible for notifying The Tribes that this notice has been published.

Dated: March 2, 2022.
Melanie O'Brien,
Manager, National NAGPRA Program.

[FR Doc. 2022-05059 Filed 3-9-22; 8:45 am]

BILLING CODE 4312-52-P